DEPARTMENT OF ENERGY

Federal Energy Regulatory Commission

[Docket No. CP04-14-006]

Saltville Gas Storage Company; Notice of Compliance Filing

November 3, 2005.

Take notice that on September 30, 2005, Saltville Gas Storage Company (Saltville) tendered for filing as part of its FERC Gas Tariff, Original Volume No. 1, the following tariff sheets, with an effective date of September 1, 2005:

First Revised Sheet No. 11

First Revised Sheet No. 12

Saltville states that the filing is being made in compliance with the Commission's orders in Saltville Gas Storage Company LLC, 107 FERC ¶ 61,267 order on reh'g, 109 FERC ¶ 61,200 (2004), order on compliance, 110 FERC ¶ 61,318 (2005).

Saltville states that copies of the filing were mailed to all customers of Saltville and affected state commissions as well as to all parties on the official service list in this proceeding.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on November 10, 2005.

Magalie R. Salas,
Secretary.

[FR Doc. E5-6215 Filed 11-9-05; 8:45 am]

BILLING CODE 6717-01-P